DEPARTMENT OF ENERGY

Federal Energy Regulatory Commission

[Docket No. CP06-429-000]

Florida Gas Transmission Company; Notice of Intent To Prepare an Environmental Assessment for the Proposed St. Petersburg Relay Replacement Project and Request for Comments on Environmental Issues

January 19, 2007.

The staff of the Federal Energy Regulatory Commission (FERC or Commission) will prepare an environmental assessment (EA) that will discuss the environmental impacts of the St. Petersburg Relay Project, involving construction and operation of facilities by Florida Gas Transmission Company (FGT).¹

¹ FGT's original proposal to construct the St. Petersburg Lateral Replacement Project was filed as a prior notice application under Section 157.208(b) of the Commission's regulations. It is now being processed as an application for construction under Section 7(c) of the Natural Gas Act due to the filing of a protest that was not resolved.

FGT proposes to replace a total of about 6.6 miles of its St. Petersburg 12-inch-diameter lateral pipeline in east-central Pinellas County, Florida. Testing of the 12-inch St. Petersburg Lateral identified stress erosion cracking anomalies reflective of the age and condition of the pipeline. Replacement of the pipeline sections and valve assemblies described below are necessary to comply with United States Department of Transportation requirements for a high consequence Class 3 area under Title 49 CFR, Pipeline Integrity Management, Subpart O (Section 192). The pipeline is located in a highly developed, urbanized area that includes residential subdivisions, shopping malls and existing county and Florida Department of Transportation (FDOT) road rights-of-way.

The sections of pipeline to be replaced are described as follows:

• Relay #1—3.6 miles of pipeline,

• Relay #2—0.09 mile of pipeline,

• Relay #3—0.40 mile of pipeline,

• Relay #4—2.1 miles of pipeline, and

• Relay #5—0.5 mile of pipeline.

FGT also proposes to install a 12-inch pig launcher and receiver and replace two 8-inch block valves with 10-inch block valves to allow passage for a pipeline integrity tool to be run after the segments have been replaced. The general location of the project is shown on the map attached as Appendix 1.²

² The appendix referenced in this notice is not being printed in the Federal Register. Copies of the appendix (maps) are available from the Commission's Public Reference Room, 888 First Street, NE., Washington, DC 20426, or call (202) 502-8371. Copies of the appendix will be sent to all those receiving this notice in the mail.

No change in the maximum allowable operating pressure of the pipeline would occur as a result of the proposed replacements. Therefore, there would be no impact to FGT's peak day or annual gas deliveries.

The proposed project would disturb up to 63.6 acres of land, 14.5 acres of which are within FGT's permanent easement and 49.1 acres of which are proposed temporary workspace and extra temporary workspace. Temporary workspace and extra temporary workspace would be required at public road and waterbody crossings, hydrostatic test locations, crossovers, tie-ins, staging/fabrication of pipeline sections, and drag sections.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need to Know?” addresses a number of typically asked questions, including the use of eminent domain and how to participate in the Commission's proceedings. It is available for viewing on the FERC Internet Web site (http://www.ferc.gov).

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received will be considered during the preparation of the EA.

The Commission's staff will prepare an EA that will describe the potential environmental impacts that could result from construction and operation of the proposed project under the general headings:

• Water resources, wetlands, and waterbodies.

• Vegetation and wildlife.

• Threatened and endangered species.

• Cultural resources.

• Geology and soils.

• Land use and residences.

• Air quality and noise.

• Reliability and safety.

Our independent analysis of the issues will be presented in the EA. We will also evaluate possible alternatives to the proposed project or portions of the project, and make recommendations on how to lessen or avoid impacts on the various resource areas.

Depending on the comments received during the scoping process, the EA may be published and mailed to Federal, State, and local government agencies; public interest groups; Native American tribes; interested individuals; affected landowners; newspapers; libraries; and the Commission's official service list for this proceeding. A 30-day comment period will be allotted for review if the EA is published. We will consider all comments submitted in any Commission Order that is issued for the project.

To ensure your comments are considered, please carefully follow the instructions in the public participation section below.

Public Participation

You can make a difference by providing us with your specific comments or concerns about the project. By becoming a commenter, your concerns will be addressed in the EA and considered by the Commission. The more specific your comments, the more useful they will be. Generally, comments are submitted regarding the potential environmental effects, reasonable alternatives and measures to avoid or lessen environmental impact.

This notice and request for environmental comments is being sent to affected landowners; Federal, State and local government representatives and agencies; environmental and public interest groups; other interested parties in this proceeding; and local libraries and newspapers. We encourage government representatives to notify their constituents of this notice and to encourage their comments concerning this proposed project.

To ensure that your comments are properly recorded, please mail them to our office on or before February 19, 2007. When filing comments please:

• Send an original and two copies of your letter to: Magalie R. Salas, Secretary, Federal Energy Regulatory Commission, 888 First St., NE., Room 1A, Washington, DC 20426.

• Label one copy of the comments for the attention of Gas Branch 2; DG2E; and Reference Docket No. CP06-429-000 on the original and both copies.

Please note that the Commission strongly encourages the electronic filing (“eFiling”) of comments, interventions or protests to this proceeding. Instructions on how to “eFile” comments can be found on the Commission's Web site at http://www.ferc.gov under the “Documents and Filings” link.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor you must file a motion to intervene according to Rule 214 of the Commission's Rules of Practice and Procedure (18 CFR 385.214). Only intervenors have the right to seek rehearing of the Commission's decision.

Affected landowners and parties with environmental concerns may be granted intervenor status upon showing good cause by stating that they have a clear and direct interest in this proceeding which would not be adequately represented by any other parties. You do not need intervenor status to have your environmental comments considered.

Environmental Mailing List

This notice has been sent to all known individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs at 1-866-208 FERC (3372) or on the FERC Internet Web site (http://www.ferc.gov).

To access information via the FERC Web site click on the “eLibrary” link then click on “General Search” and enter the docket number excluding the last three digits in the Docket Number field. Be sure you have selected an appropriate date range. The “eLibrary” link provides access to the texts of formal documents issued by the Commission such as orders, notices, and rulemakings. For assistance with “eLibrary”, please contact FERC Online Support at FERCOnlineSupport@ ferc.gov or call toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Public meetings and/or site visits along with other Project related information will be posted on the Commission's calendar located at http://www.ferc.gov/EventCalendar/EventsList.aspx.

Magalie R. Salas,
Secretary.

[FR Doc. E7-1173 Filed 1-25-07; 8:45 am]

BILLING CODE 6717-01-P